DEPARTMENT OF LABOR

Employment and Training Administration

[TA-W-59,454]

West Point Stevens, Drakes Branch, VA; Notice of Termination of Investigation

Pursuant to section 221 of the Trade Act of 1974, an investigation was initiated on May 24, 2006, in response to a petition filed on behalf of workers at West Point Stevens, Drakes Branch, Virginia.

This petitioning group of workers is covered by an earlier petition (TA-W-59,408) filed on May 16, 2006 that is the subject of an ongoing investigation for which a determination has not yet been issued. Consequently, further investigation in this case would duplicate efforts and serve no purpose; therefore the investigation has been terminated.

Signed in Washington, DC, this 26th day of May 2006.
Elliott S. Kushner,
Certifying Officer, Division of Trade Adjustment Assistance.

[FR Doc. E6-9888 Filed 6-21-06; 8:45 am]

BILLING CODE 4510-30-P